DEPARTMENT OF STATE

[Public Notice: 12949]

Privacy Act of 1974; System of Records

AGENCY: Department of State.

ACTION: Notice of a modified system of records.

SUMMARY: Pursuant to the Privacy Act of 1974, and Office of Management and Budget (“OMB”) Circular No. A-108, notice is hereby given that the United States Department of State (“the Department”) proposes to modify seven System of Records Notices (“SORNs”), listed below, to include a new routine use.

DATES: In accordance with 5 U.S.C. 552a(e)(4) and (11), this notice is subject to a 30-day notice period during which interested persons may submit comments to the Department. Please submit any comments by March 30, 2026.

ADDRESSES: Comments or questions should be submitted to the U.S. Department of State ATTN: Timothy J. Kootz, Senior Agency Official for Privacy, Shared Knowledge Services (A/SKS), Room 4534, 2201 C St. NW, Washington, DC 20520; by email at SORN@state.gov; or by telephone at (202) 485-2051. To ensure proper handling, please reference the above Department of State Public Notice No. on the envelope or the subject line of your email.

FOR FURTHER INFORMATION CONTACT: Timothy J. Kootz, Senior Agency Official for Privacy; U.S. Department of State; Shared Knowledge Services, A/SKS; Room 4534, 2201 C St. NW, Washington, DC 20520 or by calling (202) 485-2051.

SUPPLEMENTARY INFORMATION: On March 25, 2025, the Executive Office of the President issued Executive Order (“E.O.”) 14249, Protecting America's Bank Account Against Fraud, Waste, and Abuse, to the heads of all executive departments and agencies. The E.O. required agency heads to review and modify, as applicable, their relevant system of records notices under the Privacy Act of 1974 to include a “routine use” that allows for disclosure of records to the Department of the Treasury for purposes of identifying, preventing, or recouping fraud and improper payments, to the extent permissible by law.

On August 20, 2025, the Office of Management and Budget (OMB) issued Memorandum M-25-32, Preventing Improper Payments and Protecting Privacy Through Do Not Pay. This Memorandum provided guidance to help agencies implement Section 3(c) and (d) of E.O. 14249 to strengthen the Executive Branch's capacity and flexibility to prevent improper payments while preserving important safeguards under the Privacy Act of 1974. The Memorandum prescribed the specific routine use language that must be added to the Department's systems of records that maintain information whose disclosure to Treasury would be relevant and necessary for identifying, preventing, or recouping improper payments by reviewing payment and award eligibility through the Do Not Pay Working System.

To satisfy the requirements of E.O. 14249, the Department is issuing this notice in the Federal Register to modify seven SORNs to include the new routine use prescribed in OMB Memorandum M-25-32. These seven SORNs were determined to maintain information whose disclosure to Treasury would be relevant and necessary for identifying, preventing, or recouping improper payments by reviewing payment and award eligibility through the Do Not Pay Working System.

Any routine uses previously described in the seven SORNs remain unchanged and continue to apply.

The Department issued a Prefatory Statement of Routine Uses on September 27, 1977, published in 42 FR 49699, Public Notice 567. The first amendment to the Prefatory Statement was published in 69 FR 58588, Public Notice 4847, on September 30, 2004. The second amendment to the Prefatory Statement was published in 73 FR 40649, Public Notice 6290, on July 15, 2008. All of the routine uses previously described in the Department's Prefatory Statement, last amended in 73 FR 40649, remain unchanged and continue to apply to all of the Department's system of records notices.

System name and No. | Federal Register citation(s)
State-30, Personnel Payroll Records | 63 FR 7039.
State-31, Human Resources Records | 88 FR 37119, 78 FR 43258, 65 FR 69359.
State-32, Childcare Subsidy Program Records | 66 FR 53824.
State-36, Security Records | 83 FR 28058, 80 FR 77691, 78 FR 27276.
State-54, Records of the Office of the Assistant Legal Adviser for International Claims and Investment Disputes | 73 FR 35189.
State-70, Integrated Logistics Management System | 87 FR 3883, 71 FR 8885.
State-73, Global Financial Management System | 73 FR 40651.

SECURITY CLASSIFICATION:

The applicable security classification is identified in each notice referenced above.

SYSTEM LOCATION:

The applicable system location is identified in each notice referenced above.

SYSTEM MANAGER(S):

The applicable system manager(s) is identified in each notice referenced above.

ROUTINE USES OF RECORDS MAINTAINED IN THE SYSTEM, INCLUDING CATEGORIES OF USERS AND PURPOSES OF SUCH USES:

The following routine use will be added to the SORNs listed above, as prescribed in OMB M-25-32:

“To the U.S. Department of the Treasury when disclosure of the information is relevant to review payment and award eligibility through the Do Not Pay Working System for the purposes of identifying, preventing, or recouping improper payments to an applicant for, or recipient of, Federal funds, including funds disbursed by a state (meaning a state of the United States, the District of Columbia, a territory or possession of the United States, or a federally recognized Indian tribe) in a state-administered, federally funded program.”

Any previously existing routine uses are identified in each notice referenced above.

HISTORY:

See System Name and Number above.

Timothy J. Kootz,
Deputy Assistant Secretary, Shared Knowledge Services (A/SKS), U.S. Department of State.

[FR Doc. 2026-03903 Filed 2-25-26; 8:45 am]

BILLING CODE 4710-24-P